DEPARTMENT OF THE INTERIOR

Bureau of Land Management

[OR 110 5882 PH MJ99; HAG06-0104]

Notice of Meetings

AGENCY: Medford District, Bureau of Land Management, Department of the Interior.

ACTION: Notice of Bureau of Land Management, Medford District Resource. Advisory Committee meeting as identified in section 205(f)(2) of the Secure Rural Schools and Community Self-Determination Act of 2000, Public Law 106-393.

SUMMARY: The Bureau of Land Management Medford District Resource Advisory Committee will meet in Medford, Oregon to tour project sites and to discuss proposed 2007 projects, pursuant to Public Law 106-393. Agenda topics include on-site inspections of previous projects and proposed 2007 projects, review of last meeting minutes, presentations on proposed fiscal year 2007 Title II projects, and discussion regarding proposed projects.

DATES: See SUPPLEMENTARY INFORMATION section for meeting dates.

ADDRESSES: The field trips will start from, and the meetings will be held at, the Bureau of Land Management Medford District Office, located at 3040 Biddle Road, Medford, Oregon.

FOR FURTHER INFORMATION CONTACT: Bureau of Land Management, Medford District, Patty Burel at (541-618-2424), e-mail: patricia_burel@blm.gov.

SUPPLEMENTARY INFORMATION: The field trip dates are:

1. June 15, 2006, 7 a.m. to 4 p.m.

2. June 22, 2006, 7 a.m. to 4 p.m.

The meeting dates are:

1. July 13, 2006, 9 a.m. to 4 p.m.

2. July 20, 2006, 9 a.m. to 4 p.m.

A public comment period will be held from 2:00 p.m. to 2:30 p.m. on July 13 and July 20, 2006.

Authority: 43 CFR subpart 1784/Advisory Committees.

Timothy R. Reuwsaat,
District Manager, Medford.

[FR Doc. E6-6060 Filed 4-21-06; 8:45 am]

BILLING CODE 4310-33-P